NATIONAL ARCHIVES AND RECORDS ADMINISTRATION

Advisory Committee on Presidential Libraries Meeting

Notice is hereby given that the Advisory Committee on Presidential Libraries will meet on October 19, 2004, from 2 p.m. to 4:30 p.m., in the Washington Conference Room, at the National Archives Building 8th and Pennsylvania Avenue, NW., Washington, DC.

The agenda for the meeting will be the Presidential library program and a discussion of critical issues.

The meeting will be open to the public.

FOR FURTHER INFORMATION CONTACT: Richard L. Claypoole at (301) 837-3250.

This notice is published less than 15 calendar days before the meeting because of scheduling difficulties.

Dated: October 8, 2004.
Patrice Murray,
Alternate Committee Management Officer.

[FR Doc. 04-23030 Filed 10-12-04; 8:45 am]

BILLING CODE 7515-01-P